DEPARTMENT OF COMMERCE

Foreign-Trade Zones Board

[B-103-2013]

Foreign-Trade Zone 62—Brownsville, Texas; Application for Reorganization Under Alternative Site Framework

An application has been submitted to the Foreign-Trade Zones (FTZ) Board by the Brownsville Navigation District, grantee of FTZ 62, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on December 4, 2013.

FTZ 62 was approved by the FTZ Board on October 20, 1980 (Board Order 166, 45 FR 71638, 10/29/1980), and expanded on September 30, 1983 (Board Order 226, 48 FR 45814, 10/7/1983), on October 24, 1989 (Board Order 444, 54 FR 46098, 11/1/1989), and on August 21, 2003 (Board Order 1288, 68 FR 52385-52386, 9/3/2003).

The current zone includes the following sites: Site 1 (18,938 acres)—Brownsville Navigation District Port Complex and the NAFTA Industrial Park located at 6984 N. FM 511 in Brownsville; Site 2 (203 acres, 3 parcels)—Valley International Airport located on Rio Hondo Road in Harlingen; Site 3 (116 acres, 3 parcels)—Harlingen Industrial Park located at FM 106 and FM 1595 in Harlingen; and, Site 4 (758 acres, 4 parcels)—FINSA Industrial Park, 1101 Joaquin Cavazos Road, Los Indios.

The grantee's proposed service area under the ASF would be Cameron County, Texas, as described in the application. If approved, the grantee would be able to serve sites throughout the service area based on companies' needs for FTZ designation. The proposed service area is within and adjacent to the Brownsville Customs and Border Protection port of entry.

The applicant is requesting authority to reorganize its existing zone under the ASF as follows: Renumber a 71-acre portion of Site 1 as Site 5; and, Sites 1 thru 5 would become “magnet” sites. The ASF allows for the possible exemption of one magnet site from the “sunset” time limits that generally apply to sites under the ASF, and the applicant proposes that Site 1 as renumbered be so exempted. No subzones or usage-driven sites are being requested at this time.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is February 7, 2014. Rebuttal comments in response to material submitted during the foregoing period may be submitted during the subsequent 15-day period to February 24, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: December 4, 2013.
Andrew McGilvray,
Executive Secretary.

[FR Doc. 2013-29326 Filed 12-6-13; 8:45 am]

BILLING CODE 3510-DS-P